DEPARTMENT OF COMMERCE

International Trade Administration

[A-580-876]

Welded Line Pipe From the Republic of Korea: Final Results of Antidumping Duty Administrative Review; 2019-2020

AGENCY: Enforcement and Compliance, International Trade Administration, Department of Commerce.

SUMMARY: The U.S. Department of Commerce (Commerce) finds that certain producers/exporters subject to this administrative review made sales of subject merchandise at less than normal value (NV) during the period of review (POR) December 1, 2019, through November 30, 2020.

DATES: Applicable June 27, 2022.

FOR FURTHER INFORMATION CONTACT: Adam Simons, AD/CVD Operations, Office II, Enforcement and Compliance, International Trade Administration, U.S. Department of Commerce, 1401 Constitution Avenue NW, Washington, DC 20230; telephone: (202) 482-6172.

SUPPLEMENTARY INFORMATION:

Background

This review covers 31 producers/exporters of the subject merchandise. Commerce selected two companies, Hyundai Steel Company/Hyundai HYSCO (Hyundai Steel) and SeAH Steel Corporation (SeAH), for individual examination.¹ The producers/exporters not selected for individual examination are listed in Appendix II.

¹ See Memorandum, “Respondent Selection,” dated February 17, 2021.

On January 7, 2022, Commerce published the Preliminary Results and invited interested parties to comment.² On March 2, 2022, we received case briefs from Hyundai Steel and SeAH. On April 11, 2022, we postponed the final results to no later than June 17, 2022.³ For a complete description of the events that occurred since the Preliminary Results, see the Issues and Decision Memorandum.⁴

² See Welded Line Pipe from the Republic of Korea: Preliminary Results of Antidumping Duty Administrative Review; 2019-2020, 87 FR 928 (January 7, 2022) (Preliminary Results), and accompanying Preliminary Decision Memorandum (PDM).

³ See Memorandum, “Welded Line Pipe from the Republic of Korea: Extension of Deadline for Final Results of 2019-2020 Antidumping Duty Administrative Review,” dated April 11, 2022.

⁴ See Memorandum, “Issues and Decision Memorandum for the Final Results of the 2019-2020 Administrative Review of the Antidumping Duty Order on Welded Line Pipe from Korea,” dated concurrently with, and hereby adopted by, this notice (Issues and Decision Memorandum).

Scope of the Order ⁵

⁵ See Welded Line Pipe from the Republic of Korea and the Republic of Turkey: Antidumping Duty Orders, 80 FR 75056, 75057 (December 1, 2015) (Order).

The merchandise subject to the Order is welded line pipe.⁶ The product is currently classified under the following Harmonized Tariff Schedule of the United States (HTSUS) item numbers: 7305.11.1030, 7305.11.1060, 7305.11.5000, 7305.12.1030, 7305.12.1060, 7305.12.5000, 7305.19.1030, 7305.19.5000, 7306.19.1010, 7306.19.1050, 7306.19.5110, and 7306.19.5150. Although the HTSUS numbers are provided for convenience and for customs purposes, the written product description remains dispositive.

⁶ For a complete description of the scope of the order, see Preliminary Results PDM at 3.

Analysis of Comments Received

All issues raised in the case and rebuttal briefs are listed in Appendix I to this notice and addressed in the Issues and Decision Memorandum. Interested parties can find a complete discussion of these issues and the corresponding recommendations in this public memorandum, which is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding our Preliminary Results, we made certain changes to the calculation of the preliminary weighted-average dumping margins for Hyundai Steel and SeAH.

Determination of No Shipments

As noted in the Preliminary Results, we received a no shipment claim from HISTEEL Co., Ltd. (HISTEEL) and preliminarily determined that HISTEEL had no shipments during the POR.⁷ We received no comments from interested parties with respect to this claim. Therefore, because the record indicates that HISTEEL had no entries of subject merchandise to the United States during the POR, we continue to find that HISTEEL had no shipments during the POR.

⁷ See Preliminary Results.

Final Results of the Review

As a result of this review, we determine the following weighted-average dumping margins for the period December 1, 2019, through November 30, 2020:

Producer or exporter | Weighted- average dumping margin (percent)
Hyundai Steel Company/Hyundai HYSCO | 1.73
SeAH Steel Corporation | 0.00
Companies Not Selected for Individual Review ⁸ | 1.73

Disclosure of Calculations

We intend to disclose the calculations performed for Hyundai Steel and SeAH in connection with these final results to interested parties within five days of the date of publication of this notice, in accordance with 19 CFR 351.224(b).

⁸ See Appendix II for a full list of these companies.

Assessment Rates

Pursuant to section 751(a)(2)(C) of the Tariff Act of 1930, as amended (the Act), and 19 CFR 351.212(b)(1), Commerce has determined, and U.S. Customs and Border Protection (CBP) shall assess, antidumping duties on all appropriate entries of subject merchandise in accordance with the final results of this review.

Pursuant to 19 CFR 351.212(b)(1), Hyundai Steel reported the entered value of its U.S. sales such that we calculated importer-specific ad valorem duty assessment rates based on the ratio of the total amount of dumping calculated for the examined sales to the total entered value of the sales for which entered value was reported. SeAH did not report the actual entered value for all of its U.S. sales; in such instances, we calculated importer-specific per-unit duty assessment rates by aggregating the total amount of antidumping duties calculated for the examined sales and dividing this amount by the total quantity of those sales. Where either the respondent's weighted-average dumping margin is zero or de minimis within the meaning of 19 CFR 351.106(c)(1), or an importer-specific assessment rate is zero or de minimis, we will instruct CBP to liquidate the appropriate entries without regard to antidumping duties.

For the companies not selected for individual review, we used as the assessment rate the cash deposit rate calculated for Hyundai Steel because this is the only rate which is not zero, de minimis, or determined entirely on adverse facts available. The final results of this review shall be the basis for the assessment of antidumping duties on entries of merchandise covered by the final results of this review and for the future deposits of estimated duties where applicable.⁹

⁹ See section 751(a)(2)(C) of the Act.

Commerce's “automatic assessment” practice will apply to entries of subject merchandise during the POR produced by Hyundai Steel or SeAH for which the reviewed companies did not know that the merchandise they sold to the intermediary (e.g., a reseller, trading company, or exporter) was destined for the United States. In such instances, we will instruct CBP to liquidate unreviewed entries at the all-others rate if there is no rate for the intermediate company(ies) involved in the transaction.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the companies covered in this review will be equal to the weighted-average dumping margin that is established in the final results of this review, except if the rate is less than 0.50 percent and, therefore, de minimis within the meaning of 19 CFR 351.106(c)(1), in which case the cash deposit rate will be zero; (2) for previously investigated or reviewed companies not listed above, the cash deposit rate will continue to be the company-specific rate published for the most recently completed segment of this proceeding in which the company participated; (3) if the exporter is not a firm covered in this review, or the original less-than-fair-value (LTFV) investigation, but the manufacturer is, the cash deposit rate will be the cash deposit rate established for the most recently completed segment for the producer of the subject merchandise; and (4) the cash deposit rate for all other producers or exporters will continue to be 4.38 percent, the all-others rate established in the LTFV investigation.¹⁰ These deposit requirements, when imposed, shall remain in effect until further notice.

¹⁰ See Order.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is issued and published in accordance with sections 751(a)(1) and 777(i)(1) of the Act.

Dated: June 17, 2022.
Lisa W. Wang,
Assistant Secretary for Enforcement and Compliance.

Appendix I

List of Topics Discussed in the Issues and Decision Memorandum

I. Summary

II. Background

III. Margin Calculations

IV. Discussion of the Issues

Comment 1: Differential Pricing Methodology

Comment 2: Hyundai Steel's Constructed Export Price (CEP) Offset Claim

Comment 3: Hyundai Steel's U.S. Dollar Short-Term Interest Rate

Comment 4: SeAH's Ministerial Error Allegations

Comment 5: Other SeAH Issues

V. Recommendation

Appendix II

List of Companies Not Selected for Individual Review Receiving the Review-Specific Rate

1. AJU BESTEEL Co., Ltd.

2. BDP International, Inc.

3. Daewoo International Corporation

4. Dong Yang Steel Pipe

5. Dongbu Incheon Steel Co.

6. Dongbu Steel Co., Ltd.

7. Dongkuk Steel Mill

8. EEW Korea Co., Ltd.

9. Husteel Co., Ltd.

10. Hyundai RB Co. Ltd.

11. Kelly Pipe Co., LLC

12. Keonwoo Metals Co., Ltd.

13. Kolon Global Corp.

14. Korea Cast Iron Pipe Ind. Co., Ltd.

15. Kurvers Piping Italy S.R.L.

16. Miju Steel MFG Co., Ltd.

17. MSTEEL Co., Ltd.

18. NEXTEEL Co., Ltd.

19. Poongsan Valinox (Valtimet Division)

20. POSCO

21. POSCO Daewoo

22. R&R Trading Co. Ltd.

23. Sam Kang M&T Co., Ltd.

24. Sin Sung Metal Co., Ltd.

25. SK Networks

26. Soon-Hong Trading Company

27. Steel Flower Co., Ltd.

28. TGS Pipe

29. Tokyo Engineering Korea Ltd.

[FR Doc. 2022-13664 Filed 6-24-22; 8:45 am]

BILLING CODE 3510-DS-P